DEPARTMENT OF AGRICULTURE

Submission for OMB Review; Comment Request

November 26, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by December 31, 2018 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Farm to School Census and Comprehensive Review.

OMB Control Number: 0584-New.

Summary of Collection: Section 18 of the Richard B. Russell National School Lunch Act (NSLA) (42 U.S.C. 1769) authorized and funded the United States Department of Agriculture (USDA) to establish a farm to school program in order to assist eligible entities, through grants and technical assistance, in implementing farm to school programs that improve access to local foods in schools. To measure progress towards increasing the availability of local foods in schools, the Food and Nutrition Service (FNS) conducted a nationwide Farm to School Census in 2013 and 2015. The Farm to School Program uses data from the Farm to School Census to assess farm to school programs and to set priorities for outreach and technical support, as mandated under the NSLA. This third iteration of the Census will allow FNS to make comparisons of farm to school activities and trends nationally across time and help contribute to a comprehensive review of farm to school activities over the 10 year period since the USDA Farm to School grant program was established.

Need and Use of the Information: This voluntary study will collect information from State Child Nutrition and Agriculture directors, School Food Authority directors of public and private schools, and distributors. FNS will use the data collected from this study to prepare a Comprehensive Farm to School Report that will include a cumulative assessment of the scope, accomplishments, and potential of the farm to school activities of FNS. The results of this study will be used to improve the methods and tools used by FNS to describe the impact and benefits of various farm to school activities administered by grantees, schools, school food authorities, and other stakeholders.

Description of Respondents: Businesses or other for-profit institutions; and State, Local or Tribal Government.

Number of Respondents: 20,083.

Frequency of Responses: Reporting: once; annually.

Total Burden Hours: 25,061.

Food and Nutrition Service

Title: WIC Infant and Toddler Feeding Practices Study-2 (ITFPS-2) Age 6 Extension.

OMB Control Number: 0584-0580.

Summary of Collection: The Healthy, Hunger-Free Kids Act of 2010 (Pub. L. 111-296, Sec. 305) mandates programs under its authorization, including WIC, to cooperate with the United States Department of Agriculture (USDA) program research and evaluation activities. The USDA's Special Supplemental Nutrition Program for Women, Infants and Children (WIC) serves a highly-vulnerable population: Low-income pregnant and post-partum women, infants, and children through their fifth birthday who are at nutritional risk. The program provides supplemental food packages, health referrals and nutrition education for participants. The Age 6 Extension will follow children through the year following the end of their WIC age eligibility, and provide data to answer research questions relevant to WIC program and policy as well as the nutrition and wellbeing of children up to the month of their 6th birthdays.

Need and Use of the Information: This voluntary study will collect information from the caregivers of former WIC children, State WIC staff, WIC site staff, and health care providers. The study is needed to provide the Food and Nutrition Service with information on the factors that influence feeding practices and the nutrition and health outcomes of children in the first five years of their lives, and during their time of WIC age eligibility. The Age 6 Extension study will expand the data collection to their sixth year of life, through the first year in which they can no longer receive WIC services.

Description of Respondents: Individuals or households; Businesses or other for-profit institutions; Not-for-profit institutions; and State, Local or Tribal Government.

Number of Respondents: 5,004.

Frequency of Responses: Reporting: On occasion; Semi-annually.

Total Burden Hours: 4,415.

Ruth Brown,
Departmental Information Collection Clearance Officer.

[FR Doc. 2018-25957 Filed 11-28-18; 8:45 am]

BILLING CODE 3410-30-P